DEPARTMENT OF ENERGY

Federal Energy Regulatory Commission

Notice of Effectiveness of Exempt Wholesale Generator Status

| Docket Nos.
AltaGas Renewable Energy Colorado LLC | EG12-70-000
Patton Wind Farm, LLC | EG12-71-000
Big Savage, LLC | EG12-72-000
Pacific Wind Lessee, LLC | EG12-73-000
High Majestic Interconnection Services, LLC | EG12-74-000
O.L.S. Energy-Agnews, Inc | EG12-75-000
NRG Solar Avra Valley LLC | EG12-76-000
Spearville 3, LLC | EG12-77-000
NaturEner Rim Rock Wind Energy, LLC | EG12-78-000
NaturEner Glacier Wind Energy 1, LLC | EG12-79-000
Flat Ridge 2 Wind Energy LLC | EG12-80-000
Blue Sky East, LLC | EG12-81-000
Meadow Creek Project Company LLC | EG12-82-000

Take notice that during the month of July/August 2012, the status of the above-captioned entities as Exempt Wholesale Generators became effective by operation of the Commission's regulations. 18 CFR 366.7(a).

Dated: September 10, 2012.
Kimberly D. Bose,
Secretary.

[FR Doc. 2012-22666 Filed 9-13-12; 8:45 am]

BILLING CODE 6717-01-P